DEPARTMENT OF ENERGY

10 CFR Part 430

[EERE-2025-BT-DET-0002]

RIN 1904-AF70

Energy Conservation Program: Final Withdrawal of Determination of Miscellaneous Gas Products as a Covered Consumer Product

AGENCY: Office of Energy Efficiency and Renewable Energy, Department of Energy.

ACTION: Final rule; withdrawal of determination.

SUMMARY: DOE is withdrawing its prior determination that miscellaneous gas products (“MGPs”), which include decorative hearths and outdoor heaters, qualify as covered products under Part A of Title III of the Energy Policy and Conservation Act, as amended (“EPCA”).

DATES: The effective date of this final rule is June 6, 2025.

ADDRESSES: The docket for this activity, which includes Federal Register notices, comments, and other supporting documents/materials, is available for review at www.regulations.gov. All documents in the docket are listed in the www.regulations.gov index. However, not all documents listed in the index may be publicly available, such as information that is exempt from public disclosure.

The docket web page can be found at www.regulations.gov/docket/EERE-2025-BT-DET-0002. The docket web page contains instructions on how to access all documents, including public comments, in the docket.

FOR FURTHER INFORMATION CONTACT:

Ms. Julia Hegarty, U.S. Department of Energy, Office of Energy Efficiency and Renewable Energy, Building Technologies Office, EE-5B, 1000 Independence Avenue SW, Washington, DC 20585-0121. Telephone: (202) 287-1445. Email: ApplianceStandardsQuestions@ee.doe.gov.

Mr. Matthew Schneider, U.S. Department of Energy, Office of the General Counsel, GC-33, 1000 Independence Avenue SW, Washington, DC 20585-0121. Telephone: (202) 586-4798. Email: Matthew.Schneider@hq.doe.gov.

SUPPLEMENTARY INFORMATION:

Table of Contents

I. General Discussion

A. Authority and Background

B. March 2025 Proposed Withdrawal

C. Scope of Coverage

II. Conclusions

III. Procedural Issues and Regulatory Review

A. Review Under Executive Orders 12866 and 13563

B. Review Under the Regulatory Flexibility Act

C. Review Under the Paperwork Reduction Act

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under the Treasury and General Government Appropriations Act, 2001

K. Review Under Executive Order 13211

L. Information Quality

M. Review Under Additional Executive Orders and Presidential Memoranda

IV. Approval of the Office of the Secretary

I. General Discussion

A. Authority and Background

Under the Energy Policy and Conservation Act (“EPCA”), DOE may add consumer products to the list of covered products for which energy conservation standards can be established. See 42 U.S.C. 6292(a)(20). After coverage is determined, DOE may adopt standards and test procedures regulating such products, pursuant to the requirements set out in the statute. See generally, 42 U.S.C. 6293, 6295. The coverage determination procedures require DOE to conclude that a type of consumer product should be a “covered product,” meaning that “(1) classifying products of such type as covered products is necessary or appropriate to carry out the purposes of this chapter,” and “(2) average annual per-household energy use by products of such type is likely to exceed 100 kilowatt-hours (or its Btu equivalent) per year.” Id. at 42 U.S.C. 6292(b).

On February 7, 2022, DOE published a notice of proposed determination (“NOPD”) that proposed to determine coverage for MGPs, which are comprised of decorative hearths and outdoor heaters. 87 FR 6786 (“February 2022 NOPD”). After considering public comments, data, and information from interested parties submitted on the February 2022 NOPD, DOE finalized the coverage determination for MGPs. 87 FR 54330 (Sept. 6, 2022) (“September 2022 Determination”).

B. March 2025 Proposed Withdrawal

On March 13, 2025, DOE published a proposed withdrawal of determination, in which DOE proposed to withdraw its determination that MGPs are covered products under EPCA for which DOE is authorized to establish test procedures and energy conservation standards, on the basis that outdoor heaters and decorative hearth products are not similar enough in function to be grouped together for the purposes of establishing a new type of covered product. 90 FR 11908 (“March 2025 Proposed Withdrawal”). This proposal included striking the definitions for “miscellaneous gas products,” “decorative hearth product,” and “outdoor heater” from the CFR, as established by the September 2022 Determination. Id. at 90 FR 11913.

DOE developed this final withdrawal of coverage after considering comments, data, and information from interested parties that provided comments on the March 2025 Proposed Withdrawal.

Table I.1—List of Commenters With Written Submissions in Response to the March 2025 Proposed Withdrawal
Commenter(s) | Abbreviation | Comment number in the docket | Commenter type
Kelly Moore | Moore | 2 | Individual.
Logan Penna | Penna | 3 | Individual.
Anonymous | Anonymous | 4 | Individual.
Mark Straunch | Straunch | 5 | Individual.
Lia Claxton | Claxton | 6 | Individual.
MacGregor | MacGregor | 7 | Individual.
Americans for Prosperity | AFP | 8 | Advocacy Group.
Anonymous | Anonymous | 9 | Individual.
Tiffany Anne | Anne | 10 | Individual.
American Gas Association, American Public Gas Association, and the National Propane Gas Association | AGA et al | 11 | Trade Association.
Northwest Energy Efficiency Alliance | NEEA | 12 | Advocacy Group.
Kynleigh Williams | Williams | 13 | Individual.
Hearth, Patio & Barbecue Association | HPBA | 14 | Trade Association.
Keke Dawson | Dawson | 15 | Individual.
Appliance Standards Awareness Project and Earthjustice | ASAP and Earthjustice | 16 | Advocacy Group.

A parenthetical reference at the end of a comment quotation or paraphrase provides the location of the item in the public record.¹

¹ The parenthetical reference provides a reference for information located in the docket. (Docket No. EERE-2024-BT-DET-0012-0001, which is maintained at www.regulations.gov). The references are arranged as follows: (commenter name, comment docket ID number, page of that document).

In response to the March 2025 proposed withdrawal, DOE received four general comments from individuals in support of withdrawing the coverage determination for MGPs. (Anonymous, No. 4, p. 1; Straunch, No. 5, p. 1; MacGregor, No. 7, p. 1; Williams, No. 13, pp. 3-4) AFP commented that it supports the withdrawal of coverage for MGPs and supported the rationale that the products are not similar enough in function to be grouped together for purposes of establishing a new type of covered product. (AFP, No. 8 at p. 3).

AGA, APGA, and the NPGA submitted a joint comment stating their support for the withdrawal of coverage of miscellaneous gas products as covered products under EPCA. (AGA et al., No. 11, pp. 2-3) Similarly, HPBA commented in support of the withdrawal of the coverage determination. HPBA further stated that establishing coverage for MGPs is neither “necessary” nor “appropriate” within the meaning of 42 U.S.C. 6292(b)(1)(A), as is required by EPCA in order to establish coverage. (HPBA, No. 14, p. 2) In their joint comments, AGA et al. also contends that there is no reasonable potential that efficiency standards for these products would provide significant energy savings or be economically justified and further states their support for the comment submitted by HPBA. (AGA, No. 11, p. 2-3)

ASAP and Earthjustice submitted a joint comment, in which they expressed support for the adoption of an energy conservation standard for MGPs. In their comments, they highlight the potential of a design standard that would disallow continuous standing pilot lights for decorative hearth products, as well as the potential for performance standards for outdoor heaters. (ASAP and Earthjustice, No. 16, p. 1) However, ASAP and Earthjustice note they do not oppose the withdrawal of coverage for these products, as they do not support DOE maintaining federal coverage over products that are not subject to federal energy standards. (ASAP and Earthjustice, No. 16, pp. 1-2) DOE responds by noting that it has not adopted energy conservation standards for MGPs. Further, in this final rule, DOE has determined that MGPs, as defined in the September 2022 Determination, are not a “type of consumer product” for which DOE can establish coverage under 42 U.S.C. 6295(b)(1) and that as a result the coverage determination is not necessary or appropriate to carry out the purposes of statute. Should DOE decide to consider a design standard for outdoor heaters or decorative hearth products, it would need to initiate a new rulemaking or rulemakings as provided under EPCA.

NEEA expressed their opposition to the withdrawal of coverage for MGPs and encouraged DOE to maintain coverage of these products. (NEEA, No. 12 at pp. 1-2). DOE additionally received four comments from individuals opposing the proposal to withdraw the coverage determinations for MGPs, on the basis that there is potential for energy savings and an opportunity to mitigate climate impacts. (Penna, No. 3, p. 1; Claxton, No. 6, p. 1; Anonymous, No. 9, p. 1; Dawson, No. 15, p. 1)

Several comments received from individuals referred to products outside the scope of this rulemaking. (Moore, No. 2, p. 1; Straunch, No. 5, p. 1; Anonymous, No. 9, p. 1; Anne, No. 10, p. 1) The coverage of MGPs is limited to decorative hearth heaters and outdoor heaters that are gas-fired. All comments are available to review in the docket for this rulemaking.

C. Scope of Coverage

AFB, APGA et al., and Williams agreed with the March 2025 Proposed Withdrawal that MGPs, as defined in the September 2022 Determination, are not similar enough in function to be grouped together for purposes of establishing a new type of covered product. (AFB, No. 8, p. 3; APGA et al., No. 11, p. 2; Williams, No. 13, p. 3-4)

HPBA expressed that they agree with DOE's rationale for withdrawing the determination of coverage and noted in their comments that the definitions for outdoor heaters and decorative hearth products are overly broad and encompass materially different products. (HPBA, No. 14, p 2) As identified by their comments, the “decorative hearth products” category includes vented gas fireplaces, indoor log sets, and outdoor products such as fire tables, which all serve different consumer needs and have different design requirements. Id. Concerning outdoor heaters, HPBA similarly points out that strictly utilitarian patio heaters are materially different than those patio heaters intended to provide lighting and visual appeal, and portable and non-portable infrared patio heaters are similarly materially different. HPBA stated that DOE could not make a lawful determination of coverage for MGPs unless it better defines that term to include specific products, and that the same extends to the terms for decorative hearth products and outdoor heaters. Id.

Williams stated that DOE should withdraw coverage of MGPs as a category to be consistent with precedent, but that the Department should consider regulating outdoor heaters and decorative hearths as separate covered products. (Williams, No. 13, pp. 3-4) Claxton, while opposing the withdrawal of the determination of coverage of MGPs, also commented that decorative hearth products and outdoor heaters could be redefined and categorized as separate products. (Claxton, No. 6, p. 1)

NEEA, ASAP and Earthjustice, and Claxton all commented that they disagree with the rationale that outdoor heaters and decorative hearth products do not share a major function and therefore cannot be grouped together to be regulated as a single type of consumer product. (NEEA, No. 12, pp. 1-2; ASAP and Earthjustice, No. 16, p. 1; Claxton, No. 6, p. 1) ASAP and Earthjustice stated that this action does not account for the complexity of the overlapping market for these products, and noted that DOE previously has acknowledged that aesthetic values are an important part of the function of both decorative hearth products and outdoor heaters. (ASAP and Earthjustice, No. 16, p. 1) These joint commenters further noted that EPCA names “electric motors and pumps” as a single type of covered equipment, despite the fact that electric motors have a wider array of applications than pumps. They similarly noted that EPCA groups battery charger and external power supplies together although the function of these products differs in all but the broadest sense of facilitating energy use in other products. (ASAP and Earthjustice, No. 16, p. 2)

On a similar note, NEEA stated that while some MGP designs focus more on aesthetics and others focus more on supplemental heat, both types of these appliances provide some supplemental heat to consumers in indoor or outdoor spaces. (NEEA, No. 12, p. 2) Claxton additionally noted that both types of appliances are gas-powered, used in households, and consume significant amounts of energy, which could be used as justification for grouping these products as one covered product. (Claxton, No. 6, p. 1)

Upon consideration of these comments, DOE agrees with those commenters which have expressed that outdoor heaters and decorative hearth products are not similar enough in function to be grouped together for the purposes of establishing a new type of covered product. DOE notes that the categories of outdoor heaters and decorative hearths cover a wide variety of products, and these varied products as a whole do not share a major function on a consistent enough basis in order to establish them as a single covered product. While some decorative products may provide some ambient heat, and some outdoor heaters may have an aesthetic component to their design, as defined in the September 2022 Determination these functions are not required to meet the definition of either a decorative hearth product or an outdoor heater. Indeed, while decorative hearths are defined to expressly exclude products “designed to provide heat proximate to the unit,” outdoor heaters are defined to be “designed to provide heat proximate to the unit.” Therefore, the covered product, as established in the September 2022 Determination, encompasses products that may not overlap at all in any major functions. Because of this, DOE agrees with stakeholders that have commented that the covered product, as written, should be withdrawn.

II. Conclusions

For the reasons discussed in the preceding section of this document, DOE has determined that outdoor heaters and decorative hearth products are not similar enough in function to be grouped together for the purposes of establishing a new type of covered product. As a result, DOE has determined that MGPs, as defined in the September 2022 Determination, are not a “type of consumer product” for which DOE can establish coverage under 42 U.S.C. 6295(b)(1) and that as a result the coverage determination is not necessary or appropriate to carry out the purposes of statute.

III. Procedural Issues and Regulatory Review

A. Review Under Executive Orders 12866 and 13563

Executive Order (“E.O.”) 12866, “Regulatory Planning and Review,” as supplemented and reaffirmed by E.O. 13563, “Improving Regulation and Regulatory Review, 76 FR 3821 (Jan. 21, 2011), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits (including potential economic, environmental, public health and safety, and other advantages; distributive impacts; and equity); (4) to the extent feasible, specify performance objectives, rather than specifying the behavior or manner of compliance that regulated entities must adopt; and (5) identify and assess available alternatives to direct regulation, including providing economic incentives to encourage the desired behavior, such as user fees or marketable permits, or providing information upon which choices can be made by the public. DOE emphasizes as well that E.O. 13563 requires agencies to use the best available techniques to quantify anticipated present and future benefits and costs as accurately as possible. In its guidance, the Office of Information and Regulatory Affairs (“OIRA”) in the Office of Management and Budget (“OMB”) has emphasized that such techniques may include identifying changing future compliance costs that might result from technological innovation or anticipated behavioral changes. For the reasons stated in the preamble, this final regulatory action is consistent with these principles.

Section 6(a) of E.O. 12866 also requires agencies to submit “significant regulatory actions” to OIRA for review. OIRA has determined that this regulatory action does not constitute a “significant regulatory action” under section 3(f) of E.O. 12866. Accordingly, this action was not submitted to OIRA for review under E.O. 12866.

B. Review Under the Regulatory Flexibility Act

The Regulatory Flexibility Act (5 U.S.C. 601 et seq.) requires preparation of an initial regulatory flexibility analysis (“IRFA”) and a final regulatory flexibility analysis (“FRFA”) for any rule that by law must be proposed for public comment, unless the agency certifies that the rule, if promulgated, will not have a significant economic impact on a substantial number of small entities. As required by E.O. 13272, “Proper Consideration of Small Entities in Agency Rulemaking,” 67 FR 53461 (Aug. 16, 2002), DOE published procedures and policies on February 19, 2003, to ensure that the potential impacts of its rules on small entities are properly considered during the rulemaking process. 68 FR 7990. DOE has made its procedures and policies available on the Office of the General Counsel's website (www.energy.gov/gc/office-general-counsel).

DOE reviewed this final withdrawal of a determination under the provisions of the Regulatory Flexibility Act and the policies and procedures published on February 19, 2003. This withdrawal does not establish test procedures or standards for MGPs and if adopted, DOE would no longer have the authority to consider adopting such measures. Therefore, DOE concludes that the impacts of the withdrawal would not have a “significant economic impact on a substantial number of small entities,” and that the preparation of an IRFA is not warranted. DOE will transmit this certification and supporting statement of factual basis to the Chief Counsel for Advocacy of the Small Business Administration for review under 5 U.S.C. 605(b).

C. Review Under the Paperwork Reduction Act

This final withdrawal of a determination, which concludes that MGPs as defined by the September 2022 Determination do not meet the criteria for a covered product for which the Secretary may consider prescribing energy conservation standards pursuant to 42 U.S.C. 6295(o) and (p), imposes no new information or record-keeping requirements. Accordingly, the OMB clearance is not required under the Paperwork Reduction Act. (44 U.S.C. 3501 et seq.)

D. Review Under the National Environmental Policy Act of 1969

Pursuant to the National Environmental Policy Act of 1969 (“NEPA”), DOE has analyzed this final withdrawal in accordance with the National Environmental Policy Act (“NEPA”) and DOE's NEPA implementing regulations (10 CFR part 1021). DOE's regulations include a categorical exclusion for rulemakings that are strictly procedural. 10 CFR part 1021, subpart D, appendix A6. DOE has determined this rulemaking qualifies for categorical exclusion A6 because it is a strictly procedural rulemaking and otherwise meets the requirements for application of a categorical exclusion. See 10 CFR 1021.410. DOE will complete its NEPA review before issuing the final determination.

E. Review Under Executive Order 13132

E.O. 13132, “Federalism,” 64 FR 43255 (Aug. 10, 1999), imposes certain requirements on Federal agencies formulating and implementing policies or regulations that preempt State law or that have federalism implications. The Executive order requires agencies to examine the constitutional and statutory authority supporting any action that would limit the policymaking discretion of the States and to carefully assess the necessity for such actions. The Executive order also requires agencies to have an accountable process to ensure meaningful and timely input by State and local officials in the development of regulatory policies that have federalism implications. On March 14, 2000, DOE published a statement of policy describing the intergovernmental consultation process it will follow in the development of such regulations. 65 FR 13735. DOE has examined this withdrawal of a determination and has determined that it would not have a substantial direct effects on the States, on the relationship between the national government and the States, or on the distribution of power and responsibilities among the various levels of government. EPCA governs and prescribes Federal preemption of State regulations as to energy conservation for the products that are the subject of this determination. States can petition DOE for exemption from such preemption to the extent, and based on criteria, set forth in EPCA. (42 U.S.C. 6297) Therefore, no further action is required by E.O. 13132.

F. Review Under Executive Order 12988

With respect to the review of existing regulations and the promulgation of new regulations, section 3(a) of E.O. 12988, “Civil Justice Reform,” imposes on Federal agencies the general duty to adhere to the following requirements: (1) eliminate drafting errors and ambiguity, (2) write regulations to minimize litigation, (3) provide a clear legal standard for affected conduct rather than a general standard, and (4) promote simplification and burden reduction. 61 FR 4729 (Feb. 7, 1996). Regarding the review required by section 3(a), section 3(b) of E.O. 12988 specifically requires that Executive agencies make every reasonable effort to ensure that the regulation (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General. Section 3(c) of E.O. 12988 requires Executive agencies to review regulations in light of applicable standards in section 3(a) and section 3(b) to determine whether they are met or it is unreasonable to meet one or more of them. DOE has completed the required review and determined that, to the extent permitted by law, this withdrawal of a determination meets the relevant standards of E.O. 12988.

G. Review Under the Unfunded Mandates Reform Act of 1995

Title II of the Unfunded Mandates Reform Act of 1995 (“UMRA”) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a “significant intergovernmental mandate,” and requires an agency plan for giving notice and opportunity for timely input to potentially affected small governments before establishing any requirements that might significantly or uniquely affect them. On March 18, 1997, DOE published a statement of policy on its process for intergovernmental consultation under UMRA. 62 FR 12820. DOE's policy statement is also available at www.energy.gov/sites/prod/files/gcprod/documents/umra_97.pdf.

DOE examined this withdrawal of a determination according to UMRA and its statement of policy and determined that the withdrawal of coverage does not contain a Federal intergovernmental mandate, nor is it expected to require expenditures of $100 million or more in any one year by State, local, and Tribal governments, in the aggregate, or by the private sector. As a result, the analytical requirements of UMRA do not apply.

H. Review Under the Treasury and General Government Appropriations Act, 1999

Section 654 of the Treasury and General Government Appropriations Act, 1999 (Pub. L. 105-277) requires Federal agencies to issue a Family Policymaking Assessment for any rule that may affect family well-being. This final withdrawal of a determination would not have any impact on the autonomy or integrity of the family as an institution. Accordingly, DOE has concluded that it is not necessary to prepare a Family Policymaking Assessment.

I. Review Under Executive Order 12630

Pursuant to E.O. 12630, “Governmental Actions and Interference with Constitutionally Protected Property Rights,” 53 FR 8859 (March 18, 1988), DOE has determined that this final withdrawal of a determination would not result in any takings that might require compensation under the Fifth Amendment to the U.S. Constitution.

J. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002), and DOE's guidelines were published at 67 FR 62446 (Oct. 7, 2002). Pursuant to OMB Memorandum M-19-15, Improving Implementation of the Information Quality Act (April 24, 2019), DOE published updated guidelines which are available at: www.energy.gov/sites/prod/files/2019/12/f70/DOE%20Final%20Updated%20IQA%20Guidelines%20Dec%202019.pdf. DOE has reviewed this final withdrawal of a determination under the OMB and DOE guidelines and has concluded that it is consistent with applicable policies in those guidelines.

K. Review Under Executive Order 13211

E.O. 13211, “Actions Concerning Regulations That Significantly Affect Energy Supply, Distribution, or Use,” 66 FR 28355 (May 22, 2001), requires Federal agencies to prepare and submit to OIRA at OMB, a Statement of Energy Effects for any significant energy action. A “significant energy action” is defined as any action by an agency that promulgates or is expected to lead to promulgation of a final rule, and that (1) is a significant regulatory action under Executive Order 12866, or any successor order; and (2) is likely to have a significant adverse effect on the supply, distribution, or use of energy, or (3) is designated by the Administrator of OIRA as a significant energy action. For any significant energy action, the agency must give a detailed statement of any adverse effects on energy supply, distribution, or use should the proposal be implemented, and of reasonable alternatives to the action and their expected benefits on energy supply, distribution, and use.

This final withdrawal of a determination, which does not amend or establish energy conservation standards for MGPs, is not a significant regulatory action under E.O. 12866. Moreover, it would not have a significant adverse effect on the supply, distribution, or use of energy, nor has it been designated as such by the Administrator at OIRA. Accordingly, DOE has not prepared a Statement of Energy Effects.

L. Information Quality

On December 16, 2004, OMB, in consultation with the Office of Science and Technology Policy (“OSTP”), issued its Final Information Quality Bulletin for Peer Review (“the Bulletin”). 70 FR 2664 (Jan. 14, 2005). The Bulletin establishes that certain scientific information shall be peer reviewed by qualified specialists before it is disseminated by the Federal Government, including influential scientific information related to agency regulatory actions. The purpose of the Bulletin is to enhance the quality and credibility of the Government's scientific information. Under the Bulletin, the energy conservation standards rulemaking analyses are “influential scientific information,” which the Bulletin defines as “scientific information the agency reasonably can determine will have, or does have, a clear and substantial impact on important public policies or private sector decisions.” 70 FR 2664, 2667.

In response to OMB's Bulletin, DOE conducted formal peer reviews of the energy conservation standards development process and the analyses that are typically used and prepared a report describing that peer review.² Generation of this report involved a rigorous, formal, and documented evaluation using objective criteria and qualified and independent reviewers to make a judgment as to the technical/scientific/business merit, the actual or anticipated results, and the productivity and management effectiveness of programs and/or projects. Because available data, models, and technological understanding have changed since 2007, DOE has engaged with the National Academy of Sciences to review DOE's analytical methodologies to ascertain whether modifications are needed to improve the Department's analyses. DOE is in the process of evaluating the resulting report.³

² The 2007 “Energy Conservation Standards Rulemaking Peer Review Report” is available at the following website: energy.gov/eere/buildings/downloads/energy-conservation-standards-rulemaking-peer-review-report-0 (last accessed July 1, 2022).

³ The report is available at www.nationalacademies.org/our-work/review-of-methods-for-setting-building-and-equipment-performance-standards.

M. Review Under Additional Executive Orders and Presidential Memoranda

DOE has examined this final withdrawal of a determination and has determined that it is consistent with the policies and directives outlined in E.O. 14154 “Unleashing American Energy,” E.O. 14192, “Unleashing Prosperity Through Deregulation,” and Presidential Memorandum, “Delivering Emergency Price Relief for American Families and Defeating the Cost-of-Living Crisis.”

IV. Approval of the Office of the Secretary

The Secretary of Energy has approved publication of this final rule; withdrawal of determination.

List of Subjects in 10 CFR Part 430

Administrative practice and procedure, Confidential business information, Energy conservation, Household appliances, Imports, Intergovernmental relations, Reporting and recordkeeping requirements, Small businesses.

Signing Authority

This document of the Department of Energy was signed on May 1, 2025, by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 2, 2025.
Treena V. Garrett,
Federal Register Liaison Officer, U.S. Department of Energy.

For the reasons set forth in the preamble, DOE amends part 430 of chapter II, subchapter D, of title 10 of the Code of Federal Regulations, to read as set forth:

PART 430—ENERGY CONSERVATION PROGRAM FOR CONSUMER PRODUCTS

1. The authority citation for part 430 continues to read as follows:

Authority: 42 U.S.C. 6291-6309; 28 U.S.C. 2461 note.

§ 430.2 [Amended]

2. Amend § 430.2 by removing the definitions of “Decorative hearth product”, “Miscellaneous gas products”, and “Outdoor heater”.

[FR Doc. 2025-07950 Filed 5-6-25; 8:45 am]

BILLING CODE 6450-01-P